DEPARTMENT OF HEALTH AND HUMAN SERVICES

National Institutes of Health

National Institute on Alcohol Abuse and Alcoholism; Amended Notice of Meeting

Notice is hereby given of a change in the meeting of the National Institute on Alcohol Abuse and Alcoholism Special Emphasis Panel, PAR-22-102 and PAR-22-103: Investigational New Drug (IND)—enabling and Early-Stage Development of Medications to Treat Alcohol Use Disorder and Alcohol-Associated Organ Damage March 21, 2024, 01:00 p.m. to March 21, 2024, 04:00 p.m., National Institute of Health, National Institute on Alcohol Abuse and Alcoholism, 6700B Rockledge Drive, Bethesda, MD 20892 which was published in the Federal Register on February 01, 2024, FR Doc 2024-01998, 89 FR 6530.

This notice is being amended to change the Meeting Format from a Regular Meeting to a Virtual Meeting. The meeting is closed to the public.

Dated: February 21, 2024.
Melanie J. Pantoja,
Program Analyst, Office of Federal Advisory Committee Policy.

[FR Doc. 2024-04115 Filed 2-27-24; 8:45 am]

BILLING CODE 4140-01-P